DEPARTMENT OF HEALTH AND HUMAN SERVICES

Administration for Community Living

Announcing the Intent To Award a Single-Source Supplement for University Center for Excellence in Developmental Disabilities Core Function Activities

AGENCY: Administration for Community Living, HHS.

ACTION: Notice.

SUMMARY: The Administration for Community Living (ACL) announces the intent to award a single-source supplement to the current grant held by the Oregon Health and Science University Center for Excellence in Developmental Disabilities. The purpose of this supplemental funding is to support one or more core function activities to address the needs of and provide support for individuals with intellectual and developmental disabilities (I/DD) who use Augmentative and Alternative Communication (AAC) or could benefit from AAC to ensure access to needed community services, individualized supports, and other forms of assistance that promote self-determination, independence, productivity, and integration and inclusion in all facets of community life. The administrative supplement for fiscal year 2024 will amount to $270,000.

FOR FURTHER INFORMATION CONTACT: For further information or comments regarding this program supplement, contact Pamela O'Brien, U.S. Department of Health and Human Services, Administration for Community Living, Administration on Disabilities, (202) 795-7417 or via email Pamela.OBrien@acl.hhs.gov.

SUPPLEMENTARY INFORMATION: This supplementary funding will expand the engagement and technical assistance efforts around supporting people who use AAC devices to live well in the community. It will increase the capacity of the Oregon Health and Science University for Excellence in Developmental Disabilities (OHSU UCEDD) to broaden its reach and increase its impact by carrying out activities that address the needs of an unserved/underserved population—people with I/DD who use AAC or could benefit from AAC.

As a result of this funding, ACL expects the OHSU UCEDD will carry out one or more of the four core functions activities, which could include but are not limited to:

• Interdisciplinary Training: Training of future practitioners about the benefits of AAC and how to support access to AAC.

• Community Service: Supporting a community of AAC users for peer-to-peer networking, support, and exchange of ideas for addressing barriers to accessing AAC.

• Research: Conducting research such as research on the benefits of peer connections amongst AAC users.

• Information Dissemination: Developing and disseminating materials to assist others in accessing AAC and sharing findings from research with the UCEDD network and DD Community.

This supplement will fund enhanced efforts related to developing a network of AAC users to connect them where they otherwise would not be able to connect with each other.

Program Name: University Center for Excellence in Developmental Disabilities Education, Research and Service.

Recipient: Oregon Health and Science University Center for Excellence in Developmental Disabilities.

Period of Performance: The supplement award will be issued from September 30, 2024, through September 29, 2025.

Total Supplement Award Amount: $270,000.

Award Type: Grant.

Statutory Authority: This program is authorized under 42 U.S.C 15062(d).

Basis for Award: Due to the low incidence of communication disabilities associated with the use of AAC, there are very few experts in this specialty area. OHSU is a designated UCEDD with extensive expertise and experience in AAC. The UCEDD has conducted research and led teams on development of assistive technology, intervention planning, AAC peer support models, and assessment protocols for both children and adults. The UCEDD completed several AAC externally funded innovative projects that addressed public health, device development and evaluation, and interventions for young children. The UCEDD is currently developing a network of AAC users to connect them where they otherwise would not be able to connect with each other. The supplemental funding will leverage the experience and expertise of the OHSU UCEDD to focus on this unserved/underserved population and strengthen the UCEDD's work in this area.

Dated: October 3, 2024.
Alison Barkoff,
Principal Deputy Administrator for the Administration for Community Living, performing the delegable duties of the Administrator and the Assistant Secretary for Aging.

[FR Doc. 2024-23377 Filed 10-8-24; 8:45 am]

BILLING CODE 4154-01-P